DEPARTMENT OF THE INTERIOR

Bureau of Indian Affairs

[190A2100DD/AAKC001030/A0A501010.999900 253G; OMB Control Number 1076-NEW]

Agency Information Collection Activities; Submission to the Office of Management and Budget for Review and Approval; Native Language Immersion Grant

AGENCY: Bureau of Indian Affairs, Interior.

ACTION: Notice of information collection; request for comment.

SUMMARY: In accordance with the Paperwork Reduction Act of 1995, we, Bureau of Indian Education (BIE) are proposing a new information collection.

DATES: Interested persons are invited to submit comments on or before October 7, 2019.

ADDRESSES: Send written comments on this information collection request (ICR) to the Office of Management and Budget's Desk Officer for the Department of the Interior by email at OIRA_Submission@omb.eop.gov; or via facsimile to (202) 395-5806. Please provide a copy of your comments to Ms. Maureen Lesky, Ph.D., Bureau of Indian Education, 1011 Indian School Road, Albuquerque, NM 87104; or by email to Maureen.lesky@bie.edu. Please reference OMB Control Number 1076-NEW in the subject line of your comments.

FOR FURTHER INFORMATION CONTACT: To request additional information about this ICR, contact Ms. Maureen Lesky, Ph.D. by email at Maureen.lesky@bie.edu, or by telephone at (505) 563-5397. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 16, 2018 (83 FR 16380). No comments were received.

We are again soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Native Language Immersion Grant instructional funding document will be made available on the www.bie.edu website and by email, as requested. The funding document will include instructions on how to complete the document and identify required information applicants need to provide. The Native Language Immersion Grant requires the following be submitted for consideration:

• A project summary including program title, school name, Tribal language(s), geographic location with a brief overview of the need for the program including goals, objectives, specific program activities, and anticipated outputs and outcomes;

• Indication of receipt of funding previously from Department of Education or Administration for Native Americans for this specific program work and confirmation of no duplication;

• Data collection and stakeholder collaboration activities, and timetable;

• Detailed monitoring and evaluation plan including measure indicators and methods, timetable and budget references, products/services to be delivered and how/to whom they will be delivered, if applicable;

• Expected direct effect(s) of the program on beneficiaries;

• Complete budget information, requested budget items/costs for non-construction programs;

• And a completed SF-424A.

Each proposal is rated individually based on the quality of the items above and not against other applications. A summary of the review panel comments may be provided to the applicant if requested.

Title of Collection: Native Language Immersion Grant.

OMB Control Number: 1076-NEW.

Form Number: SF-424A.

Type of Review: New.

Respondents/Affected Public: Bureau of Indian Education funded schools.

Total Estimated Number of Annual Respondents: 60.

Total Estimated Number of Annual Responses: 270.

Estimated Completion Time per Response: 2 to 67 hours.

Total Estimated Number of Annual Burden Hours: 1,335.

Respondent's Obligation: Required to Obtain or Retain a Benefit.

Frequency of Collection: One time for the proposal and annual report, 12 times for the monthly meetings, and quarterly for the budget reports.

Total Estimated Annual Nonhour Burden Cost: None.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-19111 Filed 9-4-19; 8:45 am]

BILLING CODE 4337-15-P